GENERAL SERVICES ADMINISTRATION

[Notice-PBS-2025-06; Docket No. 2025-0002; Sequence No. 10]

Notice of Availability for a Final Supplemental Environmental Impact Statement and Floodplain Assessment and Statement of Findings for the Expansion and Modernization of the Raul Hector Castro Land Port of Entry and Proposed Commercial Land Port of Entry in Douglas, Arizona

AGENCY: Public Buildings Service (PBS), General Services Administration (GSA).

ACTION: Notice of Availability (NOA).

SUMMARY: Pursuant to the requirements of the National Environmental Policy Act of 1969 (NEPA) and the GSA Public Buildings Service NEPA Desk Guide, GSA is issuing this notice to announce the availability of the Final Supplemental Environmental Impact Statement (Final SEIS), which evaluates potential environmental impacts from proposed flood control and utility upgrades at the Raul Hector Castro (RHC) Land Port of Entry (LPOE), along with considering provisions to provide adequate construction water to the proposed Commercial LPOE. The potential improvements are in support of the RHC LPOE Expansion and Modernization and Proposed Commercial LPOE Project in Douglas, Arizona.

DATES:

Wait Period—The Final SEIS Wait Period begins with publication of this notice in the Federal Register and will last for 30 days until July 20, 2025. Any final written comments must be received by the last day of the Wait Period (see ADDRESSES section of this notice on how to submit comments). After the Wait Period, GSA will finalize the Record of Decision (ROD).

ADDRESSES:

Public Comments—Any final written comments may be submitted by one of the following methods.

• Email: Osmahn.Kadri@gsa.gov. Please include `RHC LPOE Final SEIS' in the subject line of the message.

• Mail: ATTN: Osmahn Kadri, RHC LPOE Final SEIS; U.S. General Services Administration, c/o Potomac-Hudson Engineering, Inc., 77 Upper Rock Circle, Suite 302, Rockville, MD 20850.

FOR FURTHER INFORMATION CONTACT: Osmahn Kadri, 415-522-3617, Osmahn.Kadri@gsa.gov.

Para obtener más información, comuníquese con Osmahn Kadri, Gerente de Proyecto NEPA de GSA, en osmahn.kadri@gsa.gov o al 415-522-3617.

SUPPLEMENTARY INFORMATION:

Unique Identifier: SEIS-023-00-009-1727281974

The Final SEIS describes the purpose and need for the project; alternatives considered; the existing environment that could be affected; the potential impacts resulting from each of the alternatives; and proposed best management practices and/or mitigation measures. The Final SEIS also includes a Floodplain Assessment and Statement of Findings, which provides a Finding of No Practicable Alternative (FONPA) related to construction in floodplains under the Proposed Action. Following publication of the Draft SEIS, GSA determined that additional construction water was required at the proposed Commercial LPOE, beyond the water that is to be supplied from a temporary groundwater well constructed by the City of Douglas in 2023 near the southeast corner of the proposed Commercial LPOE site. To address this issue, GSA is proposing to truck treated wastewater from the City of Douglas Wastewater Treatment Plant (WWTP) to the Commercial LPOE. Based on impacts analyses and public and stakeholder comments, GSA has identified Alternative 1 (Flood Control, Utility Upgrades, and Construction Water Supply) as its preferred alternative.

The undertaking has already been determined, as part of past consultations with the Arizona State Historic Preservation Officer (SHPO), to have adverse effects under the National Historic Preservation Act due to the proposed demolition of historic properties. A cultural resource survey conducted for the expanded project area in April 2025 identified four potentially historic resources. The project area presented in the Draft SEIS was revised to avoid these resources. Therefore, the project would have no additional adverse effects on historic resources beyond those discussed in the 2024 Final EIS. GSA is continuing consultation with the Arizona SHPO as required under Section 106 of the National Historic Preservation Act, and updates will be provided in the ROD.

Under the Endangered Species Act, GSA, as part of the 2024 Final EIS, coordinated with the U.S. Fish and Wildlife Service (USFWS) per section 7 requirements to determine effects to federally protected species. The USFWS concurred with GSA findings that the 2024 Final EIS preferred alternative would not likely adversely affect federally threatened or endangered species. GSA is currently consulting with USFWS regarding the Proposed Action. GSA will follow all conservation measures recommended by USFWS, including any new measures recommended for this project. Correspondence with USFWS to date is incorporated in the Final SEIS. Updates will be included in the ROD.

Because the project area is within a floodplain and in compliance with Executive Order 11988 (Floodplain Management), GSA prepared a Floodplain Assessment and Statement of Findings addressing potential impacts on floodplains, which provides a FONPA for construction within floodplains. Based on this assessment the realignment of the Rose Avenue channel segment is not anticipated to affect the floodplain's capacity to store water or result in the potential to further expand the floodplain or increase the spread or intensity of a flood event. In addition, it is anticipated that the Proposed Action would not result in significant adverse impacts from the removal of existing Special Hazard Flood Areas that correspond with the regulatory floodway, or from any potential establishment of new Special Hazard Flood Areas. The Floodplain Assessment and Statement of Findings was provided for public review as part of the Draft SEIS and is included in the Final SEIS.

Final SEIS Wait Period

The views and comments of the public are necessary in helping GSA in its decision-making process with impacts to environmental and cultural impacts. Any final comments received will be considered equally and will become part of the public record. Further information on the project, including an electronic copy of the Final SEIS, may also be found online at the following website: https://www.gsa.gov/about-us/gsa-regions/region-9-pacific-rim/land-ports-of-entry/raul-hector-castro-land-port-of-entry/environmental-review.

Russell Larson,
Director, Portfolio Management Division, Pacific Rim Region, Public Buildings Service, U.S. General Services Administration.

[FR Doc. 2025-11059 Filed 6-18-25; 8:45 am]

BILLING CODE 6820-YF-P